DEPARTMENT OF COMMERCE

National Institute of Standards and Technology

Announcement of the American Petroleum Institute's Standards Activities

AGENCY: National Institute of Standards and Technology, Commerce.

ACTION: Notice and request for public comment.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street NW., Washington, DC 20005; telephone (202) 682-8000, http://www.api.org.

FOR FURTHER INFORMATION CONTACT: Individuals listed in the SUPPLEMENTARY INFORMATION section of this notice may be reached at the American Petroleum Institute. David F. Alderman, NIST, 100 Bureau Drive, MS 2100, Gaithersburg, MD 20899, email: david.alderman@nist.gov or by phone at 301-975-4019.

SUPPLEMENTARY INFORMATION:

Background

The American Petroleum Institute develops and publishes voluntary standards for equipment, materials, operations, and processes for the petroleum and natural gas industry. These standards are used by both private industry and by governmental agencies. All interested persons should contact the appropriate source as listed for further information.

Exploration & Production

Recommended Practice 1FSC, Facilities Systems Completion, Planning, and Execution, 1st Edition

Standard 2CCU, Offshore Cargo Container Design, Manufacturing and Inspection, 1st Edition

Recommended Practice 2D, Operation and Maintenance of Offshore Cranes, 7th Edition

Recommended Practice 2EQ, Seismic Design Procedures and Criteria for Offshore Structures, 1st Edition

Recommended Practice 2MET, Metocean Design and Operating Considerations, 1st Edition

Recommended Practice 2N, Planning, Designing, and Constructing Structures and Pipelines for Arctic Conditions, 3rd Edition

Recommended Practice 2RD, Dynamic Risers for Floating Installations, 2nd Edition

Recommended Practice 2SIM, Structural Integrity Management of Fixed Offshore Structures, 1st Edition

Recommended Practice 2SM, Design, Manufacture, Installation, and Maintenance of Synthetic Fiber Ropes for Offshore Mooring, 2nd Edition

Specification 4F, Drilling and Well Servicing Structures, 4th Edition

Specification 6A, Specification for Wellhead and Christmas Tree Equipment—Addendum 3, 20th Edition

Specification 6AV1, Specification for Validation of Wellhead Surface Safety Valves and Underwater Safety Valves for Offshore Service, 2nd Edition

Recommended Practice 6HT, Heat Treatment and Testing of Large Cross Section and Critical Section Components, 2nd Edition

Recommended Practice 7G-1, Recommended Practice for Drill Stem Design and Operating Limits, 1st Edition

Specification 7HU2, Hammer Unions, 1st Edition

Recommended Practice 10B-2, Recommended Practice for Testing Well Cements, 2nd Edition

Recommended Practice 10B-4, Recommended Practice on Preparation and Testing of Foamed Cement Slurries at Atmospheric Pressure, 2nd Edition

Specification 11AX, Specification for Subsurface Sucker Rod Pumps and Fittings, 13th Edition

Specification 11E, Specification for Pumping Units, 19th Edition

Recommended Practice 11BR, Recommended Practice for the Care and Handling of Sucker Rods, 10th Edition

Recommended Practice 11G, Recommended Practice for Installation and Lubrication of Pumping Units, 5th Edition

Recommended Practice 13B-2, Recommended Practice for Field Testing Oil-based Drilling Fluids, 5th Edition

Recommended Practice 13C, Recommended Practice on Drilling Fluid Processing Systems Evaluation, 5th Edition

Specification 14A, Subsurface Safety Valve Equipment, 12th Edition

Recommended Practice 14C, Analysis, Design, Installation and Testing of Basic Surface Safety Systems on Offshore Production Platforms, 8th Edition

Specification 14F, Design and Installation of Electrical Systems for Fixed and Floating Offshore Petroleum Facilities for Unclassified and Class I, Division 1, and Division 2 Locations, 5th Edition

Standard 14H, Installation, Maintenance and Repair of Surface Safety Valves and Underwater Safety Valves Offshore, 6th Edition

Specification 16A, Specification for Drill-through Equipment, 4th Edition

Standard 16AR, Repair and Remanufacture of Blowout Prevention Equipment, 1st Edition

Specification 16C, Choke and Kill Systems, 2nd Edition

Specification 16D, Control Systems for Drilling Well Control Equipment and Control Systems for Diverter Equipment, 2nd Edition

Specification 16F, Specification for Marine Drilling Riser Equipment, 2nd Edition

Specification 16Q, Design, Selection, Operation and Maintenance of Marine Drilling Riser Systems, 2nd Edition

Specification 16R, Marine Drilling Riser Couplings, 2nd Edition

Specification 17F, Specification for Subsea Production Control Systems, 3rd Edition

Recommended Practice 17G, Recommended Practice for Completion/Workover Riser Systems, 3rd Edition

Recommended Practice 17H, Recommended Practice for Remotely Operated Tools (ROT) and Interfaces on Subsea Production Systems, 2nd Edition

Specification 17L1, Specification for Flexible Pipe Ancillary Equipment, 1st Edition

Recommended Practice 17L2, Recommended Practice for Flexible Pipe Ancillary Equipment, 1st Edition

Recommended Practice 17O-A1, Addendum 1 to Recommended Practice for High Integrity Pressure Protection Systems (HIPPS), 1st Edition

Recommended Practice 17P, Recommended Practice for Structures and Manifolds of Subsea Production Systems, 1st Edition

Recommended Practice 17U, Recommended Practice for Wet and Dry Thermal Insulation of Subsea Flowlines and Equipment, 1st Edition

Recommended Practice 17W, Recommended Practice for Subsea Capping Stacks, 1st Edition

Recommended Practice 19B, Evaluation of Well Perforators—Addendum 1, 2nd Edition

Specification 19G2, Flow-control Devices for Side-pocket Mandrels, 2nd Edition

Recommended Practice 19G11, Dynamic Simulation of Gas-Lift Wells and Systems, 1st Edition

Recommended Practice 19G9, Design, Operation, and Troubleshooting of Dual Gas-lift Wells, 2nd Edition

Specification 19S, Sand Screens, 1st Edition

Specification 19V, Subsurface Barrier Valves and Related Equipment, 1st Edition

Specification 20B, Open-die-shaped Forgings for use in the Petroleum and Natural Gas Industry, 1st Edition

Specification 20D, Nondestructive Examination (NDE) Services for Equipment used in the Petroleum and Natural Gas Industry, 1st Edition

Recommended Practice/Standard 64, Diverter Systems Equipment and Operations, 3rd Edition

Recommended Practice 65-1, Cementing Shallow Water Flow Zones in Deep Water Wells, 2nd Edition

Recommended Practice 67, Oilfield Explosives Safety, 3rd Edition

Recommended Practice 75, Development of a Safety and Environmental Management Program for Offshore Operations and Facilities, 4th Edition

Recommended Practice 90-1, Annular Casing Pressure Management for Offshore Wells, 2nd Edition

Recommended Practice 90-2, Annular Casing Pressure Management for Onshore Wells, 1st Edition

Recommended Practice 92U, Underbalanced Drilling Operations, 2nd Edition

Recommended Practice 96, Deepwater Well Design and Construction, 1st Edition

Bulletin 97, Well Construction Interface Document Guidelines, 1st Edition

Recommended Practice 98, Selection of Personal Protective Equipment, 1st Edition

Recommended Practice 99, Flash Fire Risk Assessment Standard for the Upstream Oil and Gas Industry, 1st Edition

Recommended Practice 100-1, Hydraulic Fracturing Operations—Well Construction and Integrity Guidelines, 2nd Edition

Recommended Practice 100-2, Water Management Associated with Hydraulic Fracturing, 2nd Edition

Document HF4, Community Engagement Considerations in Hydraulic Fracturing, 1st Edition

Technical Report PER15K-1, Protocol for Verification and Validation of HPHT Equipment, 1st Edition

Specification Q1, Specification for Quality Programs for the Petroleum and Natural Gas Industry, 9th Edition

Document XX, Life Cycle Management for Exploration and Production Oilfield Equipment

For Further Information Contact: Roland Goodman, Standards Department, email: (goodmanr@api.org).

Meetings/Conferences: The Exploration & Production Standards Conference will be held in Washington, DC, June 24-28, 2013. Interested parties may visit the API Web site at http://www.api.org/meetings/ for more information regarding participation in these meetings.

Marketing

Recommended Practice 1640, Light Product Quality Terminal Operations, 1st Edition

For Further Information Contact: Steve Crimaudo, Standards Department, email: (crimaudos@api.org).

Petroleum Measurement

MPMS Chapter 2.2D, Calibration of Upright Cylindrical Tanks Using the Internal Electro-optical Distance Ranging (EODR) Method (ANSI/API MPMS 2.2D), 2nd Edition

MPMS Chapter 2.2G, Calibration of Upright Cylindrical Tanks Using the Optical Reference Line Method Using Electro-optical Distance Ranging Equipment, 1st Edition

MPMS Chapter 3.1A, Standard Practice for the Manual Gauging of Petroleum and Petroleum Products, 3rd Edition

MPMS Chapter 3.5.1, Standard Practice for Level Measurement of Light Hydrocarbon Liquids Onboard Marine Carriers and Floating Storage by Automatic Tank Gauging, Part 1—Liquefied Natural Gas, 1st Edition

MPMS Chapter 3.5.2, Standard Practice for Level Measurement of Light Hydrocarbon Liquids Onboard Marine Carriers and Floating Storage by Automatic Tank Gauging, Part 2—Liquefied Petroleum and Chemical Gases, 1st Edition

MPMS Chapter 4.2, Displacement Provers, 4th Edition

MPMS Chapter 4.8, Operation of Proving Systems, 2nd Edition

MPMS Chapter 5.9, Measurement of Liquid Hydrocarbons by Vortex Meters, 1st Edition

MPMS Chapter 6.1A, Liquid Flow Measurement Systems for Single Phase Liquids—General Considerations, 1st Edition

MPMS Chapter 6.2A, Truck and Rail Loading/Unloading Measurement Systems, 1st Edition

MPMS Chapter 6.3A, Pipeline and Marine Loading and Unloading Measurement Systems, 1st Edition

MPMS Chapter 6.4A, Aviation Refueling Measurement Systems, 1st Edition

MPMS Chapter 7.1, Temperature Determination, Part 1—Liquid in Glass Thermometers, 2nd Edition

MPMS Chapter 7.2, Temperature Determination, Part 2—Portable Electronic Thermometers, 3rd Edition

MPMS Chapter 7.4, Temperature Determination, Part 4—Dynamic Temperature Measurement, 2nd Edition

MPMS Chapter 7.5, Refrigerated Hydrocarbon and Non-petroleum based Liquefied Gaseous Fuels—General Requirements for Automatic Tank Thermometers Onboard Marine Carriers and Floating Storage, 1st Edition

MPMS Chapter 8.1/ASTM D 4057, Manual Sampling of Petroleum and Petroleum Products, 4th Edition

MPMS Chapter 8.2/ASTM D 4177, Automatic Sampling of Petroleum and Petroleum Products, 3rd Edition

MPMS Chapter 8.4, Standard Practice for Sampling and Handling of Fuels for Volatility Measurement, 3rd Edition

MPMS Chapter 9.1, Standard Test Method for Density, Relative Density (Specific Gravity), or API Gravity of Crude Petroleum and Liquid Petroleum Products by Hydrometer Method (ASTM D1298), 3rd Edition

MPMS Chapter 9.2, Standard Test Method for Density or Relative Density of Light Hydrocarbons by Pressure Hydrometer (ASTM D1657), 3rd Edition

MPMS Chapter 9.3, Standard Test Method for Density, Relative Density, and API Gravity of Crude Petroleum and Liquid Petroleum Products by Thermohydrometer Method (ASTM D6822), 3rd Edition

MPMS Chapter 9.4, Continuous/On-line Density Measurement and Applications, 1st Edition

MPMS Chapter 10.4, Determination of Sediment and Water in Crude Oil by the Centrifuge Method (Field Procedure), 4th Edition

MPMS Chapter 10.9, Standard Test Method for Water in Crude Oils by Coulometric Karl Fischer Titration (ANSI/ASTM D4928), 3rd Edition

MPMS Chapter 11.1-A2, Addendum 2 to Volume Correction Factors

MPMS Chapter 11.3.2.1, Ethylene Density, 2nd Edition

MPMS Chapter 11.3.4, Gasoline/Ethanol Volume Correction Factors, 1st Edition

MPMS Chapter 12.1.2, Calculation of Static Petroleum Quantities, Part 2—Calculation Procedures for Tank Cars, 2nd Edition

MPMS Chapter 12.2, Calculation of Petroleum Quantities Using Dynamic Measurement Methods, 2nd Edition

MPMS Chapter 13.3, Measurement Uncertainty, 1st Edition

MPMS Chapter 14.1, Collecting and Handling of Natural Gas Samples for Custody Transfer, 7th Edition

MPMS Chapter 14.3.2, Concentric, Square-Edged Orifice Meters, Part 2—Specification and Installation Requirements (ANSI/API MPMS 14.3.2-20XX) (AGA Report No. 3, Part 2), 5th Edition

MPMS Chapter 14.3.3, Concentric, Square-Edged Orifice Meters, Part 3—Natural Gas Applications (ANSI/API MPMS 14.3.3) (AGA Report No. 3, Part 3), 4th Edition

MPMS Chapter 14.3.4, Concentric, Square-Edged Orifice Meters, Part 4—Background, Development, Implementation Procedures and Subroutine Documentation (AGA Report No. 3, Part 4), 4th Edition

MPMS Chapter 14.4, Converting Mass of Natural Gas Liquids and Vapors to Equivalent Liquid Volumes (GPA 8173-XX), 2nd Edition

MPMS Chapter 14.9, Measurement of Natural Gas by Coriolis Meter (AGA Report No. 11), 2nd Edition

MPMS Chapter 14.10, Measurement of Flow to Flares, 2nd Edition

MPMS Chapter 14.12, Vortex Meters For Gas Flow Measurement, 1st Edition

MPMS Chapter 17.1, Guidelines for Marine Cargo Inspection, 6th Edition

MPMS Chapter 17.6, Guidelines for Determining Fullness of Pipelines Between Vessels and Shore Tanks, 2nd Edition

MPMS Chapter 17.10.1, Refrigerated Light Hydrocarbon Fluids—Measurement of Cargoes on Board LNG Carriers, 1st Edition

MPMS Chapter 17.10.2, Measurement of Refrigerated and/or Pressurized Cargoes on Board Marine Gas Carriers, Part 2—Liquefied Petroleum and Chemical Gases, 2nd Edition

MPMS Chapter 17.12, Procedure for Bulk Liquid Chemical Cargo Inspection by Cargo Inspectors, 2nd Edition

MPMS Chapter 18.1, Measurement Procedures for Crude Oil Gathered from Small Tanks by Truck, 3rd Edition

MPMS Chapter 19.3, Part H, Tank Seals and Fittings Certification—Administration (also supersedes and incorporates the relevant sections of API MPMS Chapter 19.3 Parts F and G), 2nd Edition

MPMS Chapter 20.1, Production Allocation Measurement, 2nd Edition

MPMS Chapter 20.2, Production Allocation Measurement Using Single Phase Devices, 1st Edition

MPMS Chapter 20.3, Multiphase Flow Measurement, 1st Edition

MPMS Chapter 20.4, Draft Standard for Phase Behavior Application in Upstream Measurement and Allocation, 1st Edition

MPMS Chapter 20.5, Recommended Practice for Well Rate Determination, 1st Edition

MPMS Chapter 21.1, Electronic Gas Measurement, 2nd Edition

MPMS Chapter 22.1, Testing Protocols—General Guidelines for Developing Testing Protocols for Devices Used in the Measurement of Hydrocarbon Fluids, 2nd Edition

MPMS Chapter 22.2, Testing Protocols—Differential Pressure Flow Measurement Devices, 2nd Edition

MPMS Chapter 22.3, Testing Protocols—Flare Gas Meters, 1st Edition

MPMS Chapter 22.4, Testing Protocols—Pressure, Differential Pressure, and Temperature Measuring Devices, 1st Edition

MPMS Chapter 22.5, Testing Protocols—Electronic Flow Computer Calculations, 1st Edition

MPMS Chapter 22.6, Testing Protocols—Gas Chromatographs, 1st Edition

Technical Report 2568, Evaporative Loss from the Cleaning of Storage Tanks, 2nd Edition

Technical Report 2572, Carbon Content, Sampling and Calculation, 1st Edition

Technical Report 2573, API MPMS Chapter 10, Sediment and Water Methodology Information Guide, 1st Edition

Technical Report 257X, Short Term Evaporative Loss Estimation from Atmospheric Storage Tanks, 1st Edition

Technical Report 25XX, Thermal Cracked Gas, 1st Edition

For Further Information Contact: Paula Watkins, Standards Department, email: (watkinsp@api.org)

Meetings/Conferences: The Spring Committee on Petroleum Measurement Meeting will be held in Dallas, Texas, March 11-15, 2013. The Fall Committee on Petroleum Measurement Meeting will be held in San Francisco, California, October 14-18, 2013. Interested parties may visit the API Web site at http://www.api.org/meetings/ for more information regarding participation in these meetings.

Pipeline

Standard 1104, Welding of Pipelines and Related Facilities, 21st Edition

Recommended Practice 1110, Recommended Practice for the Pressure Testing of Steel Pipelines for the Transportation of Gas, Petroleum Gas, Hazardous Liquids, Highly Volatile Liquids or Carbon Dioxide, 6th Edition

Recommended Practice 1114, Recommended Practice for the Design of Solution-Mined Underground Storage Facilities, 2nd Edition

Recommended Practice 1160, Managing System Integrity for Hazardous Liquid Pipelines, 2nd Edition

Recommended Practice 1161-A1, Addendum 1 to Recommended Practice for Pipeline Operator Qualification, 2nd Edition

Recommended Practice 1161-A2, Addendum 2 to Recommended Practice for Pipeline Operator Qualification, 2nd Edition

Standard 1163, In-line Inspection Systems Qualification, 2nd Edition

Recommended Practice 1169, Recommended Practice for Basic Inspection Requirements—New Pipeline Construction, 1st Edition

Recommended Practice 1170, Recommended Practice on the Design and Operation of Solution-Mined Salt Caverns Used for Natural Gas Storage, 1st Edition

Recommended Practice 1171, Recommended Practice on Functional Integrity of Natural Gas Storage in Depleted Hydrocarbon Reservoirs and Salt Water Aquifers, 1st Edition

Recommended Practice 1173, Recommended Practice for Pipeline Safety Management Systems (SMS), 1st Edition

FOR FURTHER INFORMATION CONTACT: Ed Baniak, Standards Department, email: (baniake@api.org).

Refining

Recommended Practice 505, Recommended Practice for Classification of Locations for Electrical Installations at Petroleum Facilities Classified as Class I, Zone 0, Zone 1 and Zone 2, 2nd Edition

API 510, Pressure Vessel Inspection Code: Maintenance Inspection, Rating, Repair, and Alteration, 10th Edition

Standard, 520-Part 1, Sizing, Selection, and Installation of Pressure-Relieving Devices in Refineries—Part 1, Sizing and Selection, 9th Edition

Standard 521, Guide for Pressure-relieving and Depressuring Systems, 6th Edition

Standard 527, Seat Tightness of Pressure Relief Valves, 4th Edition

Recommended Practice 535, Burners for Fired Heaters in General Refinery Services, 3rd Edition

Standard 537, Flare Details for General Refinery and Petrochemical Service, 3rd Edition

Recommended Practice 538, Industrial Fired Boilers, 1st Edition

Standard 541, Form-Wound Squirrel-Cage Induction Motors 500 Horsepower and Larger, 5th Edition

Recommended Practice 551, Process Measurement Instrumentation, 2nd Edition

Recommended Practice 552, Transmission Systems, 2nd Edition

API 555, Process Analyzers, 3rd Edition

Standard 560, Fired Heaters for General Refinery Services, 5th Edition

Recommended Practice 573, Inspection of Fired Boilers and Heaters, 3rd Edition

Recommended Practice 575, Inspection of Atmospheric and Low Pressure Storage Tanks, 3rd Edition

Recommended Practice 577, Welding Processes, Inspection, and Metallurgy, 2nd Edition

Recommended Practice 583, Corrosion Under Insulation and Fireproofing, 1st Edition

Recommended Practice 584, Integrity Operating Windows, 1st Edition

Recommended Practice 585, Pressure Equipment Integrity Incident Investigation, 1st Edition

Recommended Practice 591, Process Valve Qualification Procedure, 5th Edition

Standard 599, Metal Plug Valves — Flanged, Threaded and Welding Ends, 7th Edition

Standard 603, Corrosion-Resistant, Bolted Bonnet Gate Valves—Flanged and Butt-Welding Ends, 8th Edition

Standard 612, Petroleum, Petrochemical and Natural Gas Industries—Steam Turbines—Special-Purpose Applications, 7th Edition

Standard 617, Axial and Centrifugal Compressors and Expander-compressors for Petroleum, Chemical and Gas Industry Services, 8th Edition

Standard 618, Reciprocating Compressors for Petroleum, Chemical and Gas Industry Services, 6th Edition

Standard 620, Design and Construction of Large, Welded, Low-Pressure Storage Tanks, 12th Edition

Standard 623, Steel Globe Valves—Flanged and Butt-welding Ends, Bolted Bonnets, 1st Edition

Standard 624, Type Testing of Rising Stem Valves Equipped with Flexible Graphite Packing for Fugitive Emissions, 1st Edition

Standard 625-A1, Tank Systems for Refrigerated Liquefied Gas Storage—Addendum 1, 1st Edition

Standard 650, Welded Tanks for Oil Storage, 12th Edition

Standard 653-A1, Addendum 1 to Tank Inspection, Repair, Alteration, and Reconstruction, 4th Edition

Standard 661, Air-Cooled Heat Exchangers for General Refinery Service, 7th Edition

Standard 663, Multiple Hairpin Heat Exchangers, 1st Edition

Standard 664, Spiral Plate Heat Exchangers, 1st Edition

Standard 670, Machinery Protection Systems, 5th Edition

Standard 673, Centrifugal Fans for Petroleum, Chemical and Gas Industry Services, 3rd Edition

Standard 682, Pumps—Shaft Sealing Systems for Centrifugal and Rotary Pumps, 4th Edition

Recommended Practice 684, Tutorial on the API Standard Paragraphs Covering Rotor Dynamics and Balance (An Introduction to Lateral Critical and Train Torsional Analysis and Rotor Balancing), 3rd Edition

Recommended Practice 687, Rotor Repair, 2nd Edition

Recommended Practice 691, Machinery Risk Based Inspection, 1st Edition

Standard 692, Compressor Dry Gas Seals, 1st Edition

Recommended Practice 751, Safe Operation of Hydrofluoric Acid Alkylation Units, 4th Edition

Recommended Practice 754, Process Safety Performance Indicators for the Refining and Petrochemical Industries, 2nd Edition

Recommended Practice 756, Management of Hazards Associated with Location of Process Plant Tents, 1st Edition

Standard 780, Security Risk Assessment Methodology for the Petroleum and Petrochemical Industries, 1st Edition

Technical Report, 939-D—A1, Addendum 1 to Stress Corrosion Cracking of Carbon Steel in Fuel Grade Ethanol—Review, Experience Survey, Field Monitoring, and Laboratory Testing, 2nd Edition

Standard 2000, Venting Atmospheric and Low-pressure Storage Tanks, 7th Edition

Standard 2510, Design and Construction of LPG Installations, 9th Edition

For Further Information Contact: Stephen Crimaudo, Standards Department, email: (crimaudos@api.org).

Meetings/Conferences: The Spring Refining and Equipment Standards Meeting will be held in Las Vegas, Nevada, April 22-26, 2013. The Fall Refining and Equipment Standards Meeting will be held in New Orleans, Louisiana, November 11-15, 2013. Interested parties may visit the API Web site at http://www.api.org/meetings/ for more information regarding participation in these meetings.

Safety and Fire Protection

Recommended Practice 2030, Application of Fixed Water Spray Systems for Fire Protection in the Petroleum and Petrochemical Industries, 4th Edition

Recommended Practice 2218, Fireproofing Practices in Petroleum and Petrochemical Processing Plants, 3rd Edition

Recommended Practice 2219, Safe Operation of Vacuum Trucks in Petroleum Service, 4th Edition

For Further Information Contact: Stephen Crimaudo, Standards Department, email: (crimaudos@api.org).

For additional information on the overall API standards program, Contact: David Miller, Standards Department, email: miller@api.org.

Dated: February 14, 2013.
Willie E. May,
Associate Director for Laboratory Programs.

[FR Doc. 2013-03988 Filed 2-20-13; 8:45 am]

BILLING CODE 3510-13-P